DEPARTMENT OF COMMERCE

Foreign-Trade Zones Board

[Docket 8-2007]

Foreign-Trade Zone 183 - Austin, Texas, Expansion of Manufacturing Authority -- Subzone 183B, Samsung Austin Semiconductor L.L.C., Austin, Texas

An application has been submitted to the Foreign-Trade Zones Board (the Board) by the Foreign-Trade Zone of Central Texas, Inc., grantee of FTZ 183, requesting authority on behalf of Samsung Austin Semiconductor L.L.C. (Samsung), to expand the scope of manufacturing activity conducted under zone procedures within Subzone 183B at the Samsung facilities in Austin, Texas. The application was submitted pursuant to the provisions of the Foreign-Trade Zones Act, as amended (19 U.S.C. 81a-81u), and the regulations of the Board (15 CFR part 400). It was formally filed on February 28, 2007.

Subzone 183B (1,348 employees) was approved by the Board in 2005 for the manufacture of semiconductor memory devices for export (Board Order 1421, 70 FR 72293, 12/2/05). The subzone consists of three sites (192.1 acres total; 876,453 sq. ft. of enclosed space): Site 1--Samsung Austin Semiconductor facilities (186.1 acres; 764,453 sq. ft.)--located at 12100 Samsung Boulevard in Austin, Texas; Site 2--HISCO facilities (4.1 acres; 62,000 sq. ft.)--located at 8330 Cross Park Drive in Austin; and Site 3--Three Way Inc. facilities (1.9 acres; 50,000 sq. ft.)--located at 4009 Commercial Center Drive in Austin.

The current request involves an increase in capacity due to the construction of a new fabrication unit within Site 1 that will add 1,621,482 square feet of enclosed space. No additional finished products have been requested; however, Samsung is seeking to add certain gases used in the manufacturing process to its scope of authority. The gases that may be sourced from abroad include: methane, xenon, tetrachlorosilane, boron trichloride/nitrogen, methyl floride, aluminum borohydride trimethylamine and tetrakis (ethylmethylamido) zirconium (HTS 2711.29, 2804.29, 2812.10, 2903.03, 2921.11 and 2931.00, duty rate ranges from 3.7-5.5%%). The company is requesting export only authority for the expanded capacity and additional inputs, and the scope otherwise would remain unchanged.

Zone procedures for the expanded facilities and inputs would exempt Samsung from customs duty payments on the foreign components used in export production. Currently, foreign inputs account for approximately 7 percent of the value of the finished semiconductor memory devices. Samsung would also be able to avoid duty on foreign inputs that become scrap/waste. Samsung may also realize logistical/procedural and other benefits from subzone status. The application indicates that the savings from zone procedures help improve the plant's international competitiveness.

In accordance with the Board's regulations, a member of the FTZ staff has been appointed examiner to investigate the application and report to the Board.

Public comment is invited from interested parties. Submissions (original and 3 copies) shall be addressed to the Board's Executive Secretary at the address below. The closing period for their receipt is May 21, 2007. Rebuttal comments in response to material submitted during the foregoing period may be submitted during the subsequent 15-day period to June 4, 2007.

A copy of the application and accompanying exhibits will be available for public inspection at each of the following locations:

U.S. Department of Commerce Export Assistance Center, 221 E. 11th St., 4th Floor, Austin, Texas 78701.

Office of the Executive Secretary, Foreign-Trade Zones Board, U.S. Department of Commerce, Room 2814B, 1401 Constitution Ave., NW, Washington, DC 20230.

For further information, contact Elizabeth Whiteman at Elizabeth_Whiteman@ita.doc.gov or (202) 482-0473.

Dated: February 28, 2007.
Andrew McGilvray,
Executive Secretary.

[FR Doc. E7-5067 Filed 3-19-07; 8:45 am]

BILLING CODE 3510-DS-S